DEPARTMENT OF COMMERCE

National Oceanic and Atmospheric Administration

50 CFR Part 665

RIN 0648-BH63

Pacific Island Fisheries; Ecosystem Component Species

AGENCY: National Marine Fisheries Service (NMFS), National Oceanic and Atmospheric Administration (NOAA), Commerce.

ACTION: Notice of availability of fishery ecosystem plan amendments; request for comments.

SUMMARY: NMFS announces that the Western Pacific Fishery Management Council (Council) proposes to amend the Fishery Ecosystem Plans (FEP) for American Samoa, the Mariana Archipelago, and Hawaii. Amendment 4 to the American Samoa FEP, Amendment 5 to the Marianas FEP, and Amendment 5 to the Hawaii FEP would reclassify certain management unit species as ecosystem component species. The intent of these amendments is to focus management efforts on species that are in need of conservation and management, and improve efficiency of fishery management in the region.

DATES: NMFS must receive comments on the proposed amendments by October 9, 2018.

ADDRESSES: You may submit comments on this document, identified by NOAA-NMFS-2018-0021, by either of the following methods:

• Electronic Submission: Submit all electronic public comments via the Federal e-Rulemaking Portal. Go to http://www.regulations.gov/#!docketDetail;D=NOAA-NMFS-2018-0021, click the “Comment Now!” icon, complete the required fields, and enter or attach your comments.

• Mail: Send written comments to Michael D. Tosatto, Regional Administrator, NMFS Pacific Islands Region (PIR), 1845 Wasp Blvd., Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

The Council prepared Amendment 4 to the American Samoa FEP, Amendment 5 to the Marianas FEP, and Amendment 5 to the Hawaii FEP. Those amendments, available as a single document, include an environmental assessment (EA). Copies of the amendments and EA, and other supporting documents are available at https://www.regulations.gov or the Council, 1164 Bishop St., Suite 1400, Honolulu, HI 96813, tel 808-522-8220, fax 808-522-8226, www.wpcouncil.org.

FOR FURTHER INFORMATION CONTACT: Sarah Ellgen, Sustainable Fisheries, NMFS PIR, 808-725-5173.

SUPPLEMENTARY INFORMATION: The Council established the FEPs for American Samoa, the Mariana Archipelago, and Hawaii to conserve and manage fisheries in the US Exclusive Economic Zone (Federal waters) in the Pacific Islands. The Council developed the FEPs, and NMFS implemented the associated regulations, under the authority of the Magnuson-Stevens Fishery Conservation and Management Act (Magnuson-Stevens Act).

Under the National Standard guidelines (50 CFR 600.305 and 600.310) for the Magnuson-Stevens Act, the Council and NMFS manage any fish species or stock that generally is a target of a Federal fishery and caught predominantly in Federal waters. Councils develop fishery management plans for these species (known as management unit species (MUS) that describe the fisheries, essential fish habitat (EFH), the scientific data required for effective implementation of the plan, the data that should be collected from the fisheries, and other required elements. The FEPs specify maximum sustainable yield, optimum yield, and status determination criteria so that overfishing and overfished determinations can be made. The Council and NMFS are also required to set annual catch limits (ACL) and accountability measures (AM) for all MUS, and the FEPs describe the process for specifying ACLs and AMs.

The FEPs have documented that the Council would use the system for classifying certain stocks as ecosystem component species (ECS), based on the criteria outlined in National Standard 1. National Standard 1 describes ECS as stocks that are included in an FEP to achieve ecosystem management objectives, but do not require conservation and management. Once reclassified as ECS, the number of MUS would be reduced from 205 species or families to 11 species in the American Samoa FEP, from 227 species or families to 13 species in the Marianas FEP, and from 173 species or families to 20 species in the Hawaii FEP. Appendix B in the amendment document list the proposed ECS for each area.

For a detailed description of the methods that the Council and NMFS used to identify the species to reclassify from MUS to ECS, please refer to Section 2 of the EA (see ADDRESSES).

The proposed action would change the definitions of MUS and ECS in the FEPs to reflect the Council's recommendations. It would also replace the FEP definitions of Currently Harvested Coral Reef Taxa (CHCRT) and Potentially Harvested Coral Reef Taxa (PHCRT) with Coral Reef ECS. All management measures that allow for the collection of data on EC species and protect the associated role of ECS in the ecosystem, and/or address other ecosystem issues, would be retained. These include permits and fees, reporting and recordkeeping requirements, prohibitions, allowable gear and gear restrictions, notifications, at-sea observer coverage, vessel marking and gear identification, area closures, and quotas, seasons, and minimum sizes for American Samoa and Mariana precious coral ECS. The management measures unique to the CHCRT and PHCRT would be carried forward to the coral reef ECS.

Finally, the proposed action would result in revision or removal of those sections of the FEPs that are not required for ECS, including EFH designations for ECS. The effects of this change on the environment would be minor, however, because the total area designated as EFH would change only for the deep (400-700 m) benthic substrates near Guam, the CNMI, and American Samoa, and reclassification would not change any fishery activities.

NMFS must receive comments on the proposed amendments by October 9, 2018 for consideration in the decision to approve, partially approve, or disapprove the amendments.

Authority: 16 U.S.C. 1801 et seq.

Dated: August 3, 2018.
Margo B. Schulze-Haugen,
Acting Director, Office of Sustainable Fisheries, National Marine Fisheries Service.

[FR Doc. 2018-16946 Filed 8-7-18; 8:45 am]

BILLING CODE 3510-22-P